DEPARTMENT OF ENERGY

Advanced Scientific Computing Advisory Committee

AGENCY: Department of Energy, Office of Science.

ACTION: Notice of open teleconference meeting.

SUMMARY: This notice announces an open teleconference meeting of the Advanced Scientific Computing Advisory Committee (ASCAC). The Federal Advisory Committee Act (Pub. L. 92-463, 86 Stat. 770) requires that public notice of these meetings be announced in the Federal Register.

DATES: Thursday, June 23, 2011, 2 p.m. to 4 p.m.

ADDRESSES: The meeting is open to the public. To access the call:

1. Dial Toll-Free Number: 866-740-1260 (U.S. & Canada).

2. International participants dial: Toll Number: (303) 248-0285.

3. Enter access code 8083012, followed by “#”.

To ensure we have sufficient access lines for the public, we request that members of the public notify the DFO, Christine Chalk, that you intend to call-into the meeting via e-mail at christine.chalk@science.doe.gov.

FOR FURTHER INFORMATION CONTACT: Melea Baker, Office of Advanced Scientific Computing Research; SC-21/Germantown Building; U.S. Department of Energy; 1000 Independence Avenue, SW.; Washington, DC 20585-1290; Telephone (301) 903-7486, e-mail at: Melea.Baker@science.doe.gov).

SUPPLEMENTARY INFORMATION:

Purpose of the Committee: The purpose of this Committee is to provide advice and recommendations to the Department of Energy on scientific priorities within the field of advanced scientific computing research.

Tentative Agenda: Agenda will include discussion of the following topics:

• Discussion of the draft report of the subcommittee on the data policies Charge.

• Public Comment Period.

Public Participation: This teleconference meeting is open to the public. If you would like to file a written statement with the Committee, you may do so either before or after the meeting. Individuals who wish to make oral statements pertaining to the agenda should contact Melea Baker via Fax at (301) 903-4846 or by e-mail at: Melea.Baker@science.doe.gov. Requests must be received five days prior to the meeting and reasonable provision will be made to include the presentation in the agenda. The Chairperson is empowered to conduct the meeting in a fashion that will facilitate the orderly conduct of business. Time allotted for individuals wishing to make public comments will depend on the number of individuals who wish to speak, but will not exceed 10 minutes.

Minutes: The minutes of the meeting will be available for viewing within 60 days by contacting Ms. Baker at the address or e-mail above.

Issued at Washington, DC on May 26, 2011.
LaTanya R. Butler,
Acting Deputy Committee Management Officer.

[FR Doc. 2011-13658 Filed 6-1-11; 8:45 am]

BILLING CODE 6450-01-P